DEPARTMENT OF ENERGY

Federal Energy Regulatory Commission

[Docket No. AD07-14-000]

Hydrokinetic Pilot Project Workshop; Supplemental Notice of Technical Conference With Agenda and Soliciting Comments

August 31, 2007.

On July 19th, 2007, the Federal Energy Regulatory Commission issued a notice of a technical conference, to be led by Commissioner Philip D. Moeller, with Commissioner Jon Wellinghoff participating, to be held on October 2, 2007, in Portland, Oregon. This supplemental notice provides more detailed information and establishes an agenda, which is attached.

The conference will take place at the Bonneville Power Administration's Auditorium, at 911 NE. 11th Ave., Portland, Oregon, from 10 a.m. to 4 p.m. (PST). All interested persons may attend; there is no fee. Registration is not required, but is appreciated for planning purposes; please register at https://www.ferc.gov/whats-new/registration/hydrokinetic-10-07-form.asp. Following the conference there will be a 30-day written comment period.

The purpose of the conference will be to present Commission staff's proposed licensing process for hydrokinetic energy pilot projects and to seek feedback from representatives of industry, state and federal agencies, Non-Governmental Organizations, Native American tribes, and members of the public.

The goal of the proposed process is to complete licensing in as few as six months, to provide for Commission oversight and agency input, and to allow developers to generate electricity while testing. This process will be available for projects that are: (1) Small (5 MW or less), (2) removable or able to shut down on relatively short notice, (3) not located in waters with sensitive designations; and (4) for the purpose of testing new hydro technologies or determining appropriate sites.

Staff envision the license having the following characteristics:

• A short license term (5 years);

• A standard license condition requiring project alteration or shutdown in the event that monitoring reveals an unacceptable level of environmental effect;

• The option of applying for a 30-50 year license at the end of the license term; and

• A standard license condition requiring decommissioning and site restoration at the time of license expiration if the option is not exercised.

Transcripts of the conference will be immediately available from Ace Reporting Company (202-347-3700 or 1-800-336-6646) for a fee. They will be available to the public on the Commission's eLibrary system seven calendar days after FERC receives the transcript.

All comments (original and eight copies) should be filed with: Kimberly D. Bose, Secretary, Federal Energy Regulatory Commission, 888 First Street, NE., Washington, DC 20426. Comments may be filed electronically via the Internet in lieu of paper. The Commission strongly encourages electronic filings. See 18 CFR 385.2001(a)(1)(iii) and the instructions on the Commission's Web site (http://www.ferc.gov) under the “e-Filing” link.

FERC conferences are accessible under section 508 of the Rehabilitation Act of 1973. For accessibility accommodations please send an e-mail to accessibility@ferc.gov or call toll free 866-208-3372 (voice) or 202-502-8659 (TTY), or send a FAX to 202-208-2106 with the required accommodations.

Additional details regarding the agenda and the pilot project licensing process for this conference are attached to this notice. All conference-related materials will be made available on the Commission's calendar located at http://www.ferc.gov/EventCalendar/EventsList.aspx.

For more information about the conference, please contact Kristen Murphy at 202-502-6236 (kristen.murphy@ferc.gov), or Tim Welch at 202-502-8760 (timothy.welch@ferc.gov).

Kimberly D. Bose,
Secretary.

[FR Doc. E7-17930 Filed 9-11-07; 8:45 am]

BILLING CODE 6717-01-P